DEPARTMENT OF THE INTERIOR

Bureau of Land Management

[LLCAC01000 L10100000.XZ0000 LXSIOVHD0000]

Notice of Public Meeting of the Central California Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central California Resource Advisory Council (RAC) will meet as indicated below.

DATES: A business meeting will be held Friday, May 18, 2012, at the Mono Memorial Hall, 100 Sinclair St., Bridgeport, beginning at 8 a.m., followed by a field trip that afternoon to BLM lands in the Bodie Hills area. Members of the public are welcome to attend the field trip and meeting. Field trip participants must provide their own transportation and lunch.

On May 19, the meeting will resume at 8 a.m. at Bridgeport Ranch Barns and Terrace, 68 Twin Lakes Road, Bridgeport (behind the Shell station). Time for public comment is reserved from 9 a.m. to 10 a.m.

FOR FURTHER INFORMATION CONTACT: BLM Central California District Manager Este Stifel, (916) 978-4626; or BLM Public Affairs Officer David Christy, (916) 941-3146.

SUPPLEMENTARY INFORMATION: The 12-member council advises the Secretary of the Interior, through the BLM, on a variety of planning and management issues associated with public land management in Central California. At this meeting, agenda topics will include an update on Resource Management Plans and other resource management issues. Additional ongoing business will be discussed by the council. All meetings are open to the public. Members of the public may present written comments to the council. Each formal council meeting will have time allocated for public comments. Depending on the number of persons wishing to speak, and the time available, the time for individual comments may be limited. The meeting and tour are open to the public, but individuals who wish to attend the tour must provide their own vehicles, food and water. Individuals who plan to attend and need special assistance, such as sign language interpretation and other reasonable accommodations, should contact the BLM as provided above.

Dated: April 26, 2012.
David Christy,
Public Affairs Officer.

[FR Doc. 2012-10775 Filed 5-3-12; 8:45 am]

BILLING CODE 4310-40-P